DEPARTMENT OF HEALTH AND HUMAN SERVICES

Administration for Children and Families

[OMB No. 0970-0577]

Proposed Information Collection Activity; Evaluation of LifeSet

AGENCY: Office of Planning, Research, and Evaluation; Administration for Children and Families; Department of Health and Human Services.

ACTION: Request for public comments.

SUMMARY: The Administration for Children and Families (ACF) at the U.S. Department of Health and Human Services is proposing additional information collection activities to assess the implementation of LifeSet, a program that provides services and supports to young adults ages 17 to 21 with previous child welfare involvement. Current data collection activities were approved under this same Office of Management and Budget (OMB) #: 0970-0577.

DATES: Comments due within 60 days of publication. In compliance with the requirements of the Paperwork Reduction Act of 1995, ACF is soliciting public comment on the specific aspects of the information collection described above.

ADDRESSES: You can obtain copies of the proposed collection of information and submit comments by emailing OPREinfocollection@acf.hhs.gov. Identify all requests by the title of the information collection.

SUPPLEMENTARY INFORMATION:

Description: The proposed information collection activities are part of the second phase of a study that intends to assess the impact and implementation of LifeSet, a program that provides services and supports to young adults ages 17 to 21 with previous child welfare involvement. The program aims to support young adults in their transition from foster care to independent living in the areas of education, employment and earnings, housing and economic well-being, social support, well-being, health and safety, and criminal involvement. It focuses on helping young adults identify and achieve their goals while developing the skills necessary for independent living.

The evaluation is part of a larger project to help ACF build the evidence base in child welfare through rigorous evaluation of programs, practices, and policies. The activities and products from this project will contribute to evidence building in child welfare and help to determine the effectiveness of a program for youth formerly in foster care on young adult outcomes.

The implementation study will collect information through video conferences and site visits to the participating program and child welfare agency. Data collection activities for the implementation study began, as previously approved by OMB. Additional protocols are proposed as part of the implementation study. Proposed information collection activities include interviews and focus groups with administrators and staff from the program developer, child welfare agency, and program providers; online survey of program staff; interviews with youth who participated in the program; and focus groups with youth who participated in the program and who received services as usual.

Respondents: Program participants, young adults receiving services as usual, agency and program administrators and staff, other program stakeholders.

Annual Burden Estimates
Instrument | Respondents | Number of respondents (total over request period) | Number of responses per respondent (total over request period) | Average burden per response (in hours) | Total burden (in hours) | Annual burden (in hours)
Burden for previously approved, ongoing data collection
Site Visit 2 Focus Group Guide for Staff | LifeSet Specialists | 12 | 1 | 1.5 | 18 | 9
LifeSet Team Supervisors
Baseline Youth Survey | Youth Formerly in Foster Care | 470 | 1 | 0.6 | 282 | 141
Administrative data file | Agency and Program Staff | 12 | 1 | 5 | 60 | 30
Burden for newly requested information collection
Site Visit 3 Interview Guide for Administrators | Child Welfare Agency Administrators | 22 | 1 | 1 | 22 | 11
| Licensed LifeSet Experts
| Provider Agency Administrators
| LifeSet Developer Administrators
| Provider Agency Administrators
Site Visit 3 Focus Group Guide for Staff | LifeSet Specialists LifeSet Team Supervisors | 28 | 1 | 1.5 | 42 | 21
| Child Welfare Agency Caseworkers
LifeSet Specialist Survey | LifeSet Specialists | 16 | 1 | .3 | 5 | 3
Interview Guide for Youth | LifeSet Program Youth | 12 | 1 | 1 | 12 | 6
Focus Group Guide for Youth | LifeSet Program Youth Services As Usual Youth | 64 | 1 | 1.5 | 96 | 48

Estimated Total Annual Burden Hours: 269.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 677.

Mary B. Jones,
ACF/OPRE Certifying Officer.

[FR Doc. 2022-16791 Filed 8-4-22; 8:45 am]

BILLING CODE 4184-25-P